ENVIRONMENTAL PROTECTION AGENCY

[FRL-7823-5]

Papers Addressing Scientific Issues in the Risk Assessment of Metals

AGENCY: Environmental Protection Agency.

ACTION: Notice of availability.

SUMMARY: The Environmental Protection Agency (EPA) today announces the availability of five scientific papers on metals risk assessment. The papers include: (1) Issue Paper on the Environmental Chemistry of Metals; (2) Issue Paper on Metal Exposure Assessment; (3) Issue Paper on the Ecological Effects of Metals; (4) Issue Paper on the Human Health Effects of Metals; and (5) Issue Paper on the Bioavailability and Bioaccumulation of Metals. Development of these papers was led by Eastern Research Group Inc., a contractor to EPA. These papers will inform EPA's continuing discussion of practices and methods for the risk assessment of metals.

DATES: The scientific papers will be available on or about October 4, 2004.

ADDRESSES: The issue papers are available primarily via the Internet on the Risk Assessment Forum's Web page http://cfpub.epa.gov/ncea/raf/recordisplay.cfm?deid=86119. A limited number of paper copies will be available from the EPA's National Service Center for Environmental Publications (NSCEP), P.O. Box 42419, Cincinnati, OH 45242; telephone: 1-800-490-9198 or 513-489-8190; facsimile: 513-489-8695. Please provide your name and mailing address and the title and EPA number of the requested publication, “Papers Addressing Scientific Issues in the Risk Assessment of Metals” (EPA/630/R-04/118).

FOR FURTHER INFORMATION CONTACT: For technical information, contact Dr. William P. Wood, Executive Director, Risk Assessment Forum, National Center for Environmental Assessment, Office of Research and Development; telephone: (202) 564-3361; facsimile: (202) 565-0062; or e-mail: risk.forum@epa.gov@epa.gov.

SUPPLEMENTARY INFORMATION: EPA has recognized the need for consistent application of methods and data to metals risk assessment in consideration of the unique properties of metals. Early in 2002, the Agency's Science Policy Council initiated the development a framework to assess the risks of metals to humans and the environment. An Agency Action Plan was developed and reviewed by EPA's Science Advisory Board (SAB) in September 2002. The SAB emphasized the importance of focusing on the unique properties of metals as they relate to environmental chemistry, bioavailability, bioaccumulation, exposure, and toxicity. The SAB also emphasized the importance of engaging the outside community so as to contribute to the knowledge base the Agency would draw from in developing guidance on the risk assessment of metals.

To inform the consideration of metals properties, and to engage the external scientific community, the Agency commissioned external experts to lead the development of a series of issue papers. (Some individual EPA experts contributed specific discussions on topic(s) for which he or she has scientific expertise or knowledge of current Agency practice.) A public comment period was held on the draft papers from September 22 through November 7, 2003, wherein comments were collected utilizing the Agency's on-line commenting system (E-Docket). Additionally, comment was received via a public meeting held October 28, 2003, in Washington, DC (comments remain available for viewing at www.epa.gov/edocket, Docket Number OAR-2003-0192.) Comments were requested on technical issues including the level of detail in the papers, the chemical, biological and physical processes addressed or omitted, models and approaches that might reduce uncertainty, and other considerations that would improve the utility of the papers to the development of the framework. To finalize the papers, authors were directed to EPA's E-Docket to review and consider public comments received. The final papers reflect the authors responses to scientific comments received during the public comment period. Therefore, the views expressed are those of the authors and do not necessarily reflect the views or policies of the EPA and should not be construed as implying EPA consent or endorsement.

Having engaged the external community to broaden our knowledge base, the Agency is working to develop a framework for metals risk assessment. The framework will be provided for public comment, and SAB review.

Dated: September 27, 2004.
Peter W. Preuss,
Director, National Center for Environmental Assessment.

[FR Doc. 04-22254 Filed 10-1-04; 8:45 am]

BILLING CODE 6560-50-P